DEPARTMENT OF HEALTH AND HUMAN SERVICES

National Institutes of Health

Center for Scientific Review Amended; Notice of Meeting

Notice is hereby given of a change in the meeting of the Modeling and Analysis of Biological Systems Study Section, September 29, 2011, 8 a.m. to September 29, 2011, 5 p.m., Courtyard by Marriott, 5520 Wisconsin Avenue, Chevy Chase, MD 20815 which was published in the Federal Register on August 26, 2011, 76 FR 53479.

The meeting will be held September 28, 2011, 7:30 p.m. to September 29, 2011, 5 p.m. The meeting location remains the same. The meeting is closed to the public.

Dated: September 8, 2011.
Jennifer S. Spaeth,
Director, Office of Federal Advisory Committee Policy.

[FR Doc. 2011-23529 Filed 9-13-11; 8:45 am]

BILLING CODE 4140-01-P